DEPARTMENT OF TRANSPORTATION

Federal Aviation Administration

14 CFR Part 71

[Docket No. FAA-2015-7489; Airspace Docket No. 15-ASW-20]

Amendment of Class D and E Airspace; Enid Vance AFB, OK; Enid Woodring Municipal Airport, Enid, OK; and Enid, OK

AGENCY: Federal Aviation Administration (FAA), DOT.

ACTION: Final rule.

SUMMARY: This action amends the legal descriptions of Class E surface area airspace, and Class E airspace designated as an extension in the Enid, OK, area eliminating the Notice to Airmen (NOTAM) part-time status at Vance AFB, and Enid Woodring Municipal Airport. This action also updates the geographic coordinates of Vance AFB, Woodring Municipal Airport, and the Vance VHF Omnidirectional Range Tactical Air Navigation (VORTAC) listed for Class D and Class E airspace. This is an administrative change to coincide with the FAA's aeronautical database.

DATES: Effective 0901 UTC, March 31, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 29591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Vance AFB, Enid, OK, and Woodring Municipal Airport, Enid, OK.

History

In a review of the airspace, the FAA found the airspace for Vance AFB, and Enid Woodring Municipal Airport, Enid, OK, as published in FAA Order 7400.9Z, Airspace Designations and Reporting Points, does not require part time status. This is an administrative change removing the part time NOTAM information from the legal description for the airports, and also brings current the airport reference point and NAVAID coordinates.

Class E airspace designations are published in paragraphs 5000, 6002, 6004, and 6005, respectively, of FAA Order 7400.9Z dated August 6, 2015, and effective September 15, 2015, which is incorporated by reference in 14 CFR 71.1. The Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This action amends Title 14, Code of Federal Regulations (14 CFR) part 71 by eliminating the NOTAM information that reads, “This Class E airspace is effective during the specific dates and times established in advance by a Notice to Airmen. The effective date and time will thereafter be continuously published in the Airport/Facility Directory.” from the regulatory text of the Class E surface area airspace, and Class E airspace designated as an extension to Class D, at Vance AFB, Enid, OK, and Woodring Municipal Airport, Enid, OK. Additionally, the geographic coordinates of Vance AFB, Woodring Municipal Airport, and the Vance VORTAC are updated for the Class D and Class E airspace areas listed in this rule to coincide with the FAA's aeronautical database.

This is an administrative change amending the description for Vance AFB and Woodring Municipal Airport, Enid, OK, to be in concert with the FAA's aeronautical database, and does not affect the boundaries, or operating requirements of the airspace; therefore, notice and public procedure under 5 U.S.C. 553(b) are unnecessary.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, effective September 15, 2015, is amended as follows:

5000 Class D Airspace.

* * * * *

ASW OK D Enid Vance AFB, OK [Amended]

Enid, Vance AFB, OK

(Lat. 36°20′22″ N., long. 97°55′02″ W.)

Enid, Woodring Municipal Airport, OK

(Lat. 36°22′33″ N., long. 97°47′22″ W.)

That airspace extending upward from the surface to and including 3,800 feet MSL within a 5.1-mile radius of Vance AFB, and within a 4.1-mile radius of Woodring Municipal Airport; excluding that portion of airspace east of long. 97°51′01″ W., when the Enid, Woodring Municipal Airport, OK, Class D airspace area is in effect. This Class D airspace area is effective during the specific dates and times established in advance by a Notice to Airmen. The effective date and time will thereafter be continuously published in the Airport/Facility Directory.

ASW OK D Enid Woodring Municipal Airport, OK [Amended]

Enid, Woodring Municipal Airport, OK

(Lat. 36°22′33″ N., long. 97°47′22″ W.)

That airspace extending upward from the surface to and including 3,800 feet MSL within a 4.1-mile radius of Woodring Municipal Airport; excluding that portion of airspace west of long. 97°51′01″ W. This Class D airspace area is effective during the specific dates and times established in advance by a Notice to Airmen. The effective date and time will thereafter be continuously published in the Airport/Facility Directory.

6002 Class E Airspace Designated as Surface Areas.

* * * * *

ASW OK E2 Enid, OK [Amended]

Enid, Vance AFB, OK

(Lat. 36°20′22″ N., long. 97°55′02″ W.)

Enid, Woodring Municipal Airport, OK

(Lat. 36°22′33″ N., long. 97°47′22″ W.)

Within a 5.1-mile radius of Vance AFB, and within a 4.1-mile radius of Woodring Municipal Airport.

6004 Class E Airspace Areas Designated as an Extension to a Class D or Class E Surface Area.

* * * * *

ASW OK E4 Enid Vance AFB, OK [Amended]

Enid, Vance AFB, OK

(Lat. 36°20′22″ N., long. 97°55′02″ W.)

Vance VORTAC

(lat. 36°20′42″ N., long. 97°55′07″ W.)

Enid, Woodring Municipal Airport, OK

(Lat. 36°22′33″ N., long. 97°47′22″ W.)

Woodring VOR/DME

(Lat. 36°22′26″ N., long. 97°47′17″ W.)

That airspace extending upward from the surface within 1.3 miles each side of the 188° radial of the Vance VORTAC extending from the 5.1-mile radius of Vance AFB to 6.1 miles south of the airport, and within 2.1 miles each side of the 355° radial of the Woodring VOR/DME extending from the 4.1-mile radius of Woodring Municipal Airport to 5.8 miles north of the airport, and within 2 miles each side of the 185° radial extending from the 4.1-mile radius of Woodring Municipal Airport to 5.5 miles south of the airport; excluding that portion of airspace east of long. 97°51′01″ W., when the Enid, Woodring Municipal Airport, OK, Class E airspace area is in effect.

ASW OK E4 Enid Woodring Municipal Airport, OK [Amended]

Enid, Woodring Municipal Airport, OK

(Lat. 36°22′33″ N., long. 97°47′22″ W.)

Woodring VOR/DME

(Lat. 36°22′26″; N., long. 97°47′17″ W.)

That airspace extending upward from the surface within 2.1 miles each side of the 355° radial of the Woodring VOR/DME extending from the 4.1-mile radius of Woodring Municipal Airport to 5.8 miles north of the airport, and within 2 miles each side of the 185° radial of the VOR/DME extending from the 4.1-mile radius of the airport to 5.5 miles south of the airport; excluding that portion of airspace west of long. 97°51′01″ W.

6005 Class E Airspace Areas Extending Upward From 700 Feet or More Above the Surface of the Earth.

* * * * *

ASW OK E5 Enid, OK [Amended]

Enid, Vance AFB, OK

(Lat. 36°20′22″ N., long. 97°55′02″ W.)

Enid, Woodring Municipal Airport, OK

(Lat. 36°22′33″ N., long. 97°47′22″ W.)

Woodring VOR/DME

(Lat. 36°22′26″ N., long. 97°47′17″ W.)

That airspace extending upward from 700 feet above the surface within 8.7 miles east and west of Vance AFB extending to 15.2 miles north and south of Vance AFB, and within a 6.6-mile radius of Woodring Municipal Airport, and within 2.4 miles each side of the 355° radial of the Woodring VOR/DME extending from the 6.6-mile radius to 7.5 miles north of the airport, and within 2.4 miles each side of the 185° radial of the Woodring VOR/DME extending from the 6.6-mile radius to 7.3 miles south of the airport.

Issued in Fort Worth, Texas, on February 8, 2016.
Robert W. Beck,
Manager, Operations Support Group, ATO Central Service Center.

[FR Doc. 2016-03365 Filed 2-18-16; 8:45 am]

BILLING CODE 4910-13-P